DEPARTMENT OF THE INTERIOR

Bureau of Land Management

[BLM_WY_FRN_MO4500170700]

Notice of Availability of the Draft Resource Management Plan and Environmental Impact Statement for the Rock Springs RMP Revision, Wyoming

AGENCY: Bureau of Land Management, Interior.

ACTION: Notice of availability.

SUMMARY: In accordance with the National Environmental Policy Act of 1969, as amended (NEPA), and the Federal Land Policy and Management Act of 1976, as amended (FLMPA), the Bureau of Land Management (BLM) has prepared a Draft Resource Management Plan (RMP) and Draft Environmental Impact Statement (EIS) for the Rock Springs Field Office and by this notice is providing information announcing the opening of the comment period on the Draft RMP/EIS and on BLM's proposed Areas of Critical Environmental Concern (ACECs).

DATES: This notice announces the opening of a 90-day comment period for the Draft RMP/EIS beginning with the date following the Environmental Protection Agency's (EPA's) publication of its Notice of Availability (NOA) of the Draft RMP/EIS in the Federal Register. The EPA usually publishes its NOAs on Fridays.

To afford the BLM the opportunity to consider comments in the Proposed RMP/Final EIS, please ensure that the BLM receives your comments prior to the close of the 90-day public comment period or 15 days after the last public meeting, whichever is later.

The BLM will be holding multiple public meetings during the public comment period and the dates, times, and locations of these public meetings will be announced through public notices, news releases, social media, and mailings at least 15 days prior to the meetings. In addition, this notice also announces the opening of a 60-day comment period for proposed ACECs; the BLM must receive your comments by October 17, 2023.

ADDRESSES: The Draft RMP/EIS is available for review on the BLM ePlanning project website at https://eplanning.blm.gov/eplanning-ui/project/13853/510.

Written comments related to the Rock Springs RMP Revision may be submitted by any of the following methods:

• Website: https://eplanning.blm.gov/eplanning-ui/project/13853/510

• Email: BLM_WY_RockSpringsRMP@blm.gov

• Mail: RSFO RMP Draft EIS Comments, Attn: Carlos Coontz, 280 HWY 191 N, Rock Springs, WY 82901

Documents pertinent to this proposal may be examined online at https://eplanning.blm.gov/eplanning-ui/project/13853/510 and at the Rock Springs Field Office, address listed above.

FOR FURTHER INFORMATION CONTACT: Kimberlee Foster, Field Manager, telephone 307-352-0201; address 280 HWY 191 N, Rock Springs, WY 82901; email BLM_WY_RockSpringsRMP@blm.gov. Individuals in the United States who are deaf, deafblind, hard of hearing, or have a speech disability may dial 711 (TTY, TDD, or TeleBraille) to access telecommunications relay services for contacting Mr./Ms. POC's last name. Individuals outside the United States should use the relay services offered within their country to make international calls to the point-of-contact in the United States.

SUPPLEMENTARY INFORMATION: This document provides notice that the BLM Wyoming State Director has prepared a Draft RMP/EIS, provides information announcing the opening of the comment period on the Draft RMP/EIS, and announces the comment period on BLM's proposed ACECs. The planning area is located in portions of Lincoln, Sweetwater, Uinta, Sublette, and Fremont counties in southwestern Wyoming, and encompasses approximately 3.6 million acres of public land.

Resources on lands administered by the BLM within the planning area are currently managed under the Green River RMP (1997) and Jack Morrow Hills Coordinated Activity Plan (CAP) (2004), as amended. The Green River RMP governs multiple ACECs, Special Management Areas, and Wilderness Study Areas.

Purpose and Need for the Planning Effort

The purpose of the Rock Springs RMP is to provide an updated, comprehensive, and environmentally adequate framework for managing and allocating uses of public lands and resources administered by the BLM Rock Springs Field Office. The Rock Springs RMP will address changing needs of the planning area by updating information and revising management goals, objectives, and decisions while ensuring that public lands are managed according to the principles of multiple use identified in FLPMA and while maintaining the valid existing rights and other obligations already established.

The need for revising the Green River RMP (1997) is the result of considerable changes within the planning area since 1997. Current amendments and routine maintenance actions are no longer adequate to address current conditions.

Alternatives Including the Preferred Alternative

The BLM has analyzed four alternatives in detail. Alternative A, the No-Action Alternative, represents a continuation of the existing management plans, which balances protection of resource values with the use and development of resources.

Alternative B emphasizes conservation of resource values with constraints on resource uses. Relative to all alternatives, Alternative B conserves the most public lands for physical, biological, and cultural resources.

Alternative C emphasizes resource uses (e.g., energy and mineral development and other commodity uses). Relative to all alternatives, Alternative C proposes the least restrictive management actions for energy and commodity development and the least protective management actions for physical, biological, and cultural resources while maintaining protections required by laws and regulations.

Alternative D emphasizes less conservation than Alternative B and less resource use than Alternative C. This approach allows for opportunities to use and develop resources within the planning area while promoting environmental conservation.

The BLM further considered three additional alternatives but dismissed these alternatives from detailed analysis as explained in the Draft RMP/EIS.

The State Director has identified Alternative B as the preferred alternative. Alternative B was found to best meet the State Director's planning guidance and, therefore, was selected as the preferred alternative because it conserves the most land area for physical, biological, and cultural resources.

ACECs

Consistent with land use planning regulations at 43 CFR 1610.7-2(b), the BLM is announcing the opening of a 60-day comment period on the ACECs proposed for designation in the preferred alternative. Comments may be submitted using any of the methods listed in the ADDRESSES section. The proposed ACECs included in the preferred alternative are:

• Cedar Canyon ACEC: 2,540 acres with significant cultural, scenic, and wildlife values.

• Greater Red Creek ACEC: 468,170 acres with significant historic, cultural, paleontological, wildlife, and scenic values.

• Greater Sand Dunes ACEC: 39,290 acres with significant historic, cultural, geological, and wildlife values.

• Natural Corrals ACEC: 1,110 acres with cultural, historical, recreational, wildlife, scenic, and geological values.

• Oregon Buttes ACEC: 3,440 acres with significant historic, cultural, wildlife, and scenic values.

• Pine Springs ACEC: 6,480 acers with historic, cultural, and paleontological values.

• South Pass Historic Landscape ACEC: 171,300 acres with significant cultural, scenic, and wildlife values.

• Special Status Plant Species ACEC: 3,610 acres with significant Special Status Species value.

• Steamboat Mountain ACEC: 439,330 acres with significant historic, cultural, wildlife, and scenic values.

• White Mountain Petroglyphs ACEC: 20 acres with significant Native American concerns and scenic values.

• South Wind River ACEC: 374,710 acres with high value air, cultural, biodiversity, and visual resources.

• Red Lake East Sand Dunes ACEC: 22,340 acres with scenic and wildlife values.

• Big Game Migration Corridor ACEC: 226,335 acres with wildlife and biodiversity values for the protection of big game.

• Big Sandy Openings ACEC: 2,020 acres with scenic, watershed, and geologic values.

• Pinnacles ACEC: 1,340 acres with scenic, paleontological, and wildlife values.

• Monument Valley ACEC: 69,960 acres with wildlife, geologic, cultural, and paleontological values.

Schedule for the Decision-Making Process

The BLM will provide additional opportunities for public participation consistent with the NEPA and land use planning processes, including a 30-day public protest period and a 60-day Governor's consistency review on the Proposed RMP. The Proposed RMP/Final EIS is anticipated to be available for public protest in Spring 2024 with an Approved RMP and Record of Decision in Summer 2024.

The BLM will be holding three public meetings in the following locations: Rock Springs, Lyman, and Big Piney, Wyoming. The specific date(s) and location(s) of these meetings will be announced at least 15 days in advance through local media, newspapers, and the ePlanning project page (https://eplanning.blm.gov/eplanning-ui/project/13853/510).

The BLM will continue to consult with Indian Tribal Nations on a government-to-government basis in accordance with Executive Order 13175, BLM MS 1780, and other Departmental policies. Tribal concerns, including impacts on Indian trust assets and potential impacts to cultural resources, will be given due consideration. Consultation with interested Indian Tribal Nations is ongoing.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2, 43 CFR 1610.7-2)

Andrew Archuleta,
State Director.

[FR Doc. 2023-17787 Filed 8-17-23; 8:45 am]

BILLING CODE 4331-26-P